SMALL BUSINESS ADMINISTRATION

[Declaration of Disaster #3340]

Commonwealth of Puerto Rico

As a result of the President's major disaster declaration on May 16, 2001, I find that the municipalities of Cabo Rojo, Lajas, Guanica, Guayanilla, San German and Yauco in the commonwealth of Puerto Rico constitute a disaster area due to damages caused by severe storms, flooding and mudslides beginning on May 6, 2001 and continuing. Applications for loans for physical damage as a result of this disaster may be filed until the close of business on July 15, 2001, and for loans for economic injury until the close of business on February 15, 2002 at the address listed below or other locally announced locations: U.S. Small Business Administration, Disaster Area 1 Office, 360 Rainbow Blvd., South, 3rd Floor, Niagara Falls, NY 14303.

In addition, applications for economic injury loans from small businesses located in the following contiguous municipalities may be filed until the specified date at the above location: Adjuntas, Hormigueros, Lares, Maricao, Mayaguez, Penuelas, and Sabana Grande in the Commonwealth of Puerto Rico.

The interest rates are:

| Percent
For Physical Damage:
Homeowners with credit available elsewhere | 6.625
Homeowners without credit available elsewhere | 3.312
Businesses with credit available elsewhere | 8.000
Businesses and non-profit organizations without credit available elsewhere | 4.000
Others (including non-profit organizations) with credit available elsewhere | 7.125
For Economic Injury:
Businesses and small agricultural cooperatives without credit available elsewhere | 4.000

The number assigned to this disaster is 334011 for physical damage and 9L7100 for economic injury.

(Catalog of Federal Domestic Assistance Program Nos. 59002 and 59008)
Dated: May 17, 2001.
Herbert L. Mitchell,
Associate Administrator for Disaster Assistance.

[FR Doc. 01-13190 Filed 5-24-01; 8:45 am]

BILLING CODE 8025-01-P